COMMITTEE FOR PURCHASE FROM PEOPLE WHO ARE BLIND OR SEVERELY DISABLED

Procurement List Proposed Additions and Deletions

AGENCY: Committee for Purchase from People Who are Blind or Severely Disabled.

ACTION: Proposed Additions to and Deletions from the Procurement List.

SUMMARY: The Committee is proposing to add products and services to the Procurement List that will be furnished by nonprofit agencies employing persons who are blind or have other severe disabilities, and deletes products and a service previously furnished by such agencies.

DATES: Comments must be received on or before: 7/7/2014.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN: 8540-00-NIB-0093—Tissue, Toilet, 1-Ply, White, 96 rolls

NSN: 8540-00-NIB-0094—Tissue, Toilet, 2-Ply, White, 96 rolls

NPA: Outlook-Nebraska, Inc., Omaha, NE

Contracting Activity: General Services Administration, New York, NY

Coverage: A-List for the Total Government Requirement as aggregated by the General Services Administration, New York, NY.

NSN: 7490-00-NIB-0044—Paper Shredder, High Security, Level 6, Cabinet Style

NSN: 7490-00-NIB-0045—Paper Shredder, Desk-Side, Personal, Level 3, Cross-Cut

NPA: L.C. Industries, Inc., Durham, NC

Contracting Activity: General Services Administration, New York, NY

Coverage: A-List for the Total Government Requirement as aggregated by the General Services Administration, New York, NY.

Individual Lockout Devices

NSN: 5340-00-NIB-0160—Safety Padlock, Red, 1.5″ Shackle

NSN: 5340-00-NIB-0162—Hasp, Steel with Tabs, 1″

NSN: 5340-00-NIB-0163—Large Plug Lockout with Label

NSN: 5340-00-NIB-0164—Small Plug Lockout with Label

NSN: 5340-00-NIB-0166—Gate Valve Lockout, 1″ to 2-½″

NSN: 5340-00-NIB-0169—Gate Valve Lockout, 2-1/2″ to 5″

NSN: 5340-00-NIB-0183—Wall Switch Lockout

NSN: 5340-00-NIB-0204—Universal Single Circuit Breaker Lockout

NSN: 5340-00-NIB-0205—Universal Multi-pole Circuit Breaker Lockout

NSN: 5340-00-NIB-0208—Hasp, 1.5″ Steel with Tabs

NSN: 5340-00-NIB-0213—Cable/Valve/Hasp Lockout Device

NSN: 5340-00-NIB-0220—6 Lockout Padlocks, Nylon, Red

NSN: 5340-00-NIB-0221—3 Lockout Padlocks, Nylon, Red

Lockout/Tagout Kits

NSN: 4240-00-NIB-0161—Lockout Tags, 25-pack

NSN: 4240-00-NIB-0185—Kit, Lockout, Electrical/Valve with AC Sensor

NSN: 4240-00-NIB-0202—Lockout/Tagout Station, 3 Padlocks

NSN: 4240-00-NIB-0203—Lockout/Tagout Station, 8 Padlocks

NSN: 4240-00-NIB-0207—AC Sensor, 50V-1000V

NSN: 4240-00-NIB-0228—Medium Electrical Lockout Kit with Breaker Lockouts

NSN: 4240-00-NIB-0229—Large Electrical Lockout Kit

NSN: 4240-00-NIB-0230—Large Electrical/Valve Lockout Kit

NSN: 4240-00-NIB-0231—Small Standard Lockout Kit

NSN: 4240-00-NIB-0232—Extra Small Personal Electrical Lockout Kit

NSN: 4240-00-NIB-0233—Small Electrical Lockout Kit

NSN: 4240-00-NIB-0234—Small Electrical Lockout Kit with Plug Lockouts

NSN: 4240-00-NIB-0236—Small Electrical Valve Lockout Kit

NPA: Association for the Blind and Visually Impaired—Goodwill Industries of Greater Rochester, Rochester, New York

Contracting Activity: Defense Logistics Agency Troop Support, Philadelphia, PA

Coverage: B-List for the Broad Government requirement as aggregated by the Defense Logistics Agency Troop Support, Philadelphia, PA.

Broom, Sweeping

NSN: 7920-00-NIB-0570—Extra-Rough Surface, 24″ Block with 60″ Handle

NSN: 7920-00-NIB-0571—Smooth Surface, 24″ Block with 60″ Handle

NSN: 7920-00-NIB-0572—Medium Surface, 24″ Block with 60″ Handle

NPA: Industries for the Blind, Inc., West Allis, WI

Contracting Activity: General Services Administration, Fort Worth, TX

Coverage: B-List for the Broad Government Requirement as aggregated by the General Services Administration, Fort Worth, TX.

NSN: 5120-00-900-6103—Hammer—3 lb, Cross-Peen, 15″ Fiberglass Handle, Cushioned Grip

NPA: Keystone Vocational Services, Inc., Sharon, PA

Contracting Activity: General Services Administration, Tools Acquisition Division I, Kansas City, MO

Coverage: B-List for the Broad Government Requirement as aggregated by the General Services Administration, Kansas City, MO.

NSN: MR 331—Pitter, Cherry and Olive

NSN: MR 332—Peeler, Corn

NSN: MR 335—Squeezer, Citrus, Aluminum

NSN: MR 896—Turner, Flexible, Thin, 11.5″X12″X4″

NPA: Cincinnati Association for the Blind, Cincinnati, OH

Contracting Activity: Defense Commissary Agency, Fort Lee, VA

Coverage: C-List for the requirements of military commissaries and exchanges as aggregated by the Defense Commissary Agency, Fort Lee, VA.

NSN: MR 604—Drinking Straws, Flexible, Clear, 180ct

NSN: MR 10663—Pouf Balls, Bath, Toddler

NSN: MR 10674—Funnel, Collapsible

NSN: MR 10679—Baster, Bottletop

NPA: Winston-Salem Industries for the Blind, Inc., Winston-Salem, NC

Contracting Activity: Defense Commissary Agency, Fort Lee, VA

Coverage: C-List for the requirements of military commissaries and exchanges as aggregated by the Defense Commissary Agency, Fort Lee, VA.

NSN: MR 399—Set, Cookie Cutter, Assorted, 3PC

NPA: Industries for the Blind, Inc., West Allis, WI

Contracting Activity: Defense Commissary Agency, Fort Lee, VA

Coverage: C-List for the requirements of military commissaries and exchanges as aggregated by the Defense Commissary Agency, Fort Lee, VA.

Battery

NSN: 6135-01-372-5191—NEDA 1811A, Non-Rechargeable, 12.0V, Alkaline-Manganese Dioxide Zinc

NSN: 6135-01-174-8057—NEDA 1166A, Non-Rechargeable, 1.5V, Alkaline-Manganese Dioxide

NSN: 6140-01-413-3926—NEDA 1.2H2, Rechargeable, 1.2V, Nickel-Metal Hydride, PG/4

NSN: 6140-01-467-3225—NEDA 1.2H2, Rechargeable, 1.2V, Nickel-Metal Hydride, PG/2.

NSN: 6135-01-394-8087—NEDA 1168A, Non-Rechargeable, 1.5V, Alkaline-Manganese Dioxide

NSN: 6135-01-268-2151—NEDA 1414A, Non-Rechargeable, 6.0V, Alkaline-Manganese Dioxide

NSN: 6135-01-314-8415—NEDA 5000LC, Non-Rechargeable, 3.0V, Lithium

NSN: 6135-01-526-6530—NEDA 5003LC, Non-Rechargeable, 3.0V, Lithium-Manganese Dioxide

NSN: 6135-01-210-8715—NEDA 5004LC, Non-Rechargeable, 3.0V, Lithium-Manganese Dioxide

NSN: 6135-01-320-4815—NEDA 5011LC, Non-Rechargeable, 3.0V, Lithium

NSN: 6135-01-263-3611—NEDA 5012LC, Non-rechargeable, 3.0V, Lithium-Manganese Dioxide

NSN: 6135-01-522-2463—NEDA 5021LC, Non-Rechargeable, 3.0V, Lithium Manganese Dioxide

NSN: 6135-01-462-4007—NEDA 5032LC, Non-Rechargeable, 6.0V, Lithium-Manganese Dioxide

NSN: 6135-01-534-0310—NEDA 5046LC, Non-Rechargeable, 3.0V, Lithium-Manganese Dioxide

NSN: 6135-01-138-8157—NEDA 7003ZD, Non-Rechargeable, 1.4V, Zinc Air

NSN: 6135-01-586-4220—NEDA 5018LC, Non-Rechargeable, 3.0V, Lithium Photo

NPA: Eastern Carolina Vocational Center, Inc., Greenville, NC

Contracting Activity: Defense Logistics Agency Land and Maritime, Columbus, OH

Coverage: C-List for 100% of the requirement of the Department of Defense, as aggregated by the Defense Logistics Agency Land and Maritime, Columbus, OH.

NSN: 6850-01-560-6131—Calcium, Lime, and Rust Remover, 5 GL

NPA: The Lighthouse for the Blind, St. Louis, MO

Contracting Activity: Defense Logistics Agency Aviation, Richmond, VA

Coverage: A-List for the Total Government Requirement as aggregated by the Defense Logistics Agency Aviation, Richmond, VA.

Services

Service Type/Location: Custodial Service, Federal Aviation Administration, Atlanta Large TRACON, 784 Highway 74 South, Peachtree City, GA

NPA: New Ventures Enterprises, Inc., LaGrange, GA

Contracting Activity: Dept. of Transportation, Federal Aviation Administration, College Park, GA

Service Type/Location: Fleet Maintenance, U.S. Department of Energy, National Nuclear Security Administration, Agent Operations Eastern Command, Office of Secure Transportation, Transportation Safeguards Training Site, Fort Chaffee, AR, 11408 Roberts Blvd., Fort Smith, AR

NPA: Skookum Educational Programs, Bremerton, WA

Contracting Activity: Department of Energy, National Nuclear Security Administion Business Services Division, Washington, DC

Deletions

The following products and service are proposed for deletion from the Procurement List:

Products

Ergo Aluminum Broom Handle & Mophead

NSN: 7920-01-503-1669

NSN: 7920-01-503-1670

NSN: 7920-01-503-1671

NSN: 7920-01-503-1672

NSN: 7920-01-503-5365

NSN: 7920-01-503-5366

NSN: 7920-01-503-5367

NPA: Industries for the Blind, Inc., West Allis, WI

Contracting Activities: Department Of Veterans Affairs, NAC, Hines, IL; General Services Administration, Fort Worth, TX

Service

Service Type/Location: Linen Distribution, Veterans Affairs Medical Center, 1900 East Main Street, Danville, IL

NPA: WorkSource Enterprises, NFP, Danville, IL

Contracting Activity: Department Of Veterans Affairs, 251-Network Contract Office 11, Indianapolis, IN

Barry S. Lineback,
Director, Business Operations.

[FR Doc. 2014-13317 Filed 6-5-14; 8:45 am]

BILLING CODE 6353-01-P